DEPARTMENT OF ENERGY

Federal Energy Regulatory Commission

[Docket Nos. RP93-5-039 and RP93-96-017]

Northwest Pipeline Corporation; Notice of Compliance Filing

April 10, 2000.

Take notice that on April 3, 2000, Northwest Pipeline Corporation (Northwest) tendered for filing a group of revised tariff sheets, workpapers and other materials applicable to the period from April 1, 1993 through October 31, 1994 during which Northwest's rates as established in Docket Nos. RP93-5 and RP93-96 were applicable.

Northwest states that the purpose of this filing is to comply with the Commission's February 11, 2000 Order Rejecting Compliance Filing in Docket Nos. RP93-5-034 and RP93-96-013. Northwest states that it has submitted (1) revised rates and surcharges based on the 6.08 percent long-term growth projection as established by settlement of the parties and the median return on equity, (2) its proposal regarding the effective data of the related surcharges, (3) detailed workpapers reflecting the calculation of its income tax adjustments and (4) revised tariff sheets that set forth the appropriate surcharges.

Northwest states that a copy of this filing has been served upon each person designated on the official service lists compiled by the Secretary in this proceeding.

Any person desiring to protest said filing should file a protest with the Federal Energy Regulatory Commission, 888 First Street, NE, Washington, DC 20426, in accordance with Section 385.211 of the Commission's Rules and Regulations. All such protests must be filed on or before April 17, 2000. Protests will be considered by the Commission in determining the appropriate action to be taken, but will not serve to make protestants parties to the proceedings. Copies of this filing are on file with the Commission and are available for public inspection in the Public Reference Room. This filing may be viewed on the web at http://www.ferc.fed.us/online/rims.htm (call 202-208-2222 for assistance).

David P. Boergers,
Secretary.

[FR Doc. 00-9304 Filed 4-13-00; 8:45 am]

BILLING CODE 6717-01-M